SMALL BUSINESS ADMINISTRATION

13 CFR Part 121

RIN 3245-AG29

Small Business Size Standards; Educational Services; Correction

Correction

In rule document 2013-14263, appearing on pages 36083-36084 in the issue of Monday, June 17, 2013, make the following correction:

§ 121.201 What size standards has SBA identified by North American Industry Classification System codes? [Corrected]

On page 36083, in the table entitled “SMALL BUSINESS SIZE STANDARDS BY NAICS INDUSTRY”, in the third column, in the third row, “ ¹⁶ 35.5” should read “$35.5 ¹⁶”.

[FR Doc. C1-2013-14263 Filed 6-21-13; 8:45 am]

BILLING CODE 1505-01-D